DEPARTMENT OF HEALTH AND HUMAN SERVICES

Centers for Disease Control and Prevention

Notice of Intent To Award Affordable Care Act (ACA) Funding, EH10-1003

Notice of Intent to award Affordable Care Act (ACA) funding to National Association for Health Data Organizations (NAHDO) to continue with the existing partnership and conduct projects for facilitating linkages between health outcome and environmental data. The NAHDO-Tracking collaboration has proven to be an important step in establishing access to existing hospital and emergency department data. This award was proposed in the grantee's Fiscal Year (FY) 2011 non-Competing Continuation application under funding opportunity EH10-1003, “National Environmental Public Health Tracking Program.”

AGENCY: Centers for Disease Control and Prevention (CDC), Department of Health and Human Services (HHS).

ACTION: Notice.

SUMMARY: This notice provides public announcement of CDC's intent to award Affordable Care Act (ACA) appropriations to the following grantee: National Association for Health Data Organizations (NAHDO) to collaborate with CDC to identify and overcome barriers that limit access to hospital and emergency department data, including identifying and resolving issues of access to secure records. These activities are proposed by the above-mentioned grantee in their FY 2011 application submitted under funding opportunity EH10-1003, “National Environmental Public Health Tracking Program (EPHT),” Catalogue of Federal Domestic Assistance Number (CFDA): 93.070.

Approximately $124,995.00 in ACA funding will be awarded to the grantee for network expansion and enhancement. Funding is appropriated under the Affordable Care Act (Pub. L. 111-148), Section 4002 [42 U.S.C. 300u-11]; (Prevention and Public Health Fund).

Accordingly, CDC adds the following information to the previously published funding opportunity announcement of EH10-1003:

Authority: Section 317(k)(2) of the Public Health Service Act, [42 U.S.C Section 247b(k)(2)], as amended, and the Patient Protection and Affordable Care Act (ACA), Section 4002 [42 U.S.C. 300u-11].

CFDA #: 93.538, Affordable Care Act—National Environmental Public Health Tracking Program-Network Implementation

Award Information

Type of Award: Non-Competing Continuation Cooperative Agreement

Approximate Total Current Fiscal Year ACA Funding: $124,995

Anticipated Number of Awards: 1

Fiscal Year Funds: 2011

Anticipated Award Date: July 1, 2011

Application Selection Process

Funding will be awarded to applicant based on results from successful past performance review.

Funding Authority

CDC will add the ACA Authority to that which is reflected in the published Funding Opportunity CDC-RFA-EH10-1003. The revised funding authority language will read:

—This program is authorized under the Section 317(k)(2) of the Public Health Service Act, [42 U.S.C Section 247b(k)(2)], as amended, and the Patient Protection and Affordable Care Act (ACA), Section 4002 [42 U.S.C. 300u-11].

DATES: The effective date for this action is the date of publication of this Notice and remains in effect until the expiration of the project period of the ACA funded applications.

FOR FURTHER INFORMATION CONTACT: Elmira Benson, Acting Deputy Director, Procurement and Grants Office, Centers for Disease Control and Prevention, 2920 Brandywine Road, Atlanta, GA 30341, telephone (770) 488-2802, e-mail Elmira.Benson@cdc.gov.

SUPPLEMENTARY INFORMATION: On March 23, 2010, the President signed into law the Affordable Care Act (ACA), Public Law 111-148. The ACA is designed to improve and expand the scope of health care coverage for Americans. Cost savings through disease prevention is an important element of this legislation and the ACA has established a Prevention and Public Health Fund (PPHF) for this purpose. Specifically, the legislation states in Section 4002 that the PPHF is to “provide for expanded and sustained national investment in prevention and public health programs to improve health and help restrain the rate of growth in private and public sector health care costs.” The ACA and the Prevention and Public Health Fund make improving public health a priority with investments to improve public health.

The PPHF states that the Secretary shall transfer amounts in the Fund to accounts within the Department of Health and Human Services to increase funding, over the fiscal year 2008 level, for programs authorized by the Public Health Service Act, for prevention, wellness and public health activities including prevention research and health screenings, such as the Community Transformation Grant Program, the Education and Outreach Campaign for Preventative Benefits, and Immunization Programs.

The ACA legislation affords an important opportunity to advance public health across the lifespan and to improve public health by supporting the Tracking Network. This network builds on ongoing efforts within the public health and environmental sectors to improve health tracking, hazard monitoring and response capacity. Therefore, increasing funding available to applicants under this FOA using the PPHF will allow them to expand and sustain their existing tracking networks, utilize tracking data available on networks for potential public health assessments which is consistent with the purpose of the PPHF, as stated above, and to provide for an expanded and sustained national investment in prevention and public health programs. Further, the Secretary allocated funds to CDC, pursuant to the PPHF, for the types of activities this FOA is designed to carry out.

Dated: June 30, 2011.
Tanja Popovic,
Deputy Associate Director for Science, Centers for Disease Control and Prevention.

[FR Doc. 2011-17602 Filed 7-12-11; 8:45 am]

BILLING CODE 4163-18-P